DEPARTMENT OF ENERGY

Federal Energy Regulatory Commission

Combined Notice of Filings #1

Take notice that the Commission received the following electric corporate filings:

Docket Numbers: EC14-119-000.

Applicants: Grays Harbor Energy LLC.

Description: Application for Authorization Under Section 203 of the Federal Power Act and Request for Waivers and Expedited Action of Grays Harbor Energy LLC.

Filed Date: 7/29/14.

Accession Number: 20140729-5140.

Comments Due: 5 p.m. ET 8/19/14.

Take notice that the Commission received the following electric rate filings:

Docket Numbers: ER10-2984-011.

Applicants: Merrill Lynch Commodities, Inc.

Description: Second Supplement to June 21, 2013 Updated Market Power Analysis for the Southwest Region of Merrill Lynch Commodities, Inc.

Filed Date: 7/29/14.

Accession Number: 20140729-5146.

Comments Due: 5 p.m. ET 8/19/14.

Docket Numbers: ER11-3643-000.

Applicants: PacifiCorp.

Description: Refund Report Filing (2013 True-Up and Schedule 5 & 6) to be effective N/A.

Filed Date: 7/30/14.

Accession Number: 20140730-5067.

Comments Due: 5 p.m. ET 8/20/14.

Docket Numbers: ER13-1489-003.

Applicants: Quantum Lake Power, LP.

Description: Amendment containing Workpapers of Dr. John R. Morris to March 26, 2014 Notification of Non-Material Change in Status of Quantum Lake Power, LP.

Filed Date: 7/29/14.

Accession Number: 20140729-5145.

Comments Due: 5 p.m. ET 8/19/14.

Docket Numbers: ER13-1489-003.

Applicants: Quantum Lake Power, LP.

Description: Amendment to March 26, 2014 Notification of Non-Material Change in Status of Quantum Lake Power, LP.

Filed Date: 7/29/14.

Accession Number: 20140729-5151.

Comments Due: 5 p.m. ET 8/19/14.

Docket Numbers: ER14-1872-000.

Applicants: Midcontinent Independent System Operator, Inc.

Description: 2014-07-30_SA 2650 METC E&P Supplement Filing to be effective N/A.

Filed Date: 7/30/14.

Accession Number: 20140730-5039.

Comments Due: 5 p.m. ET 8/20/14.

Docket Numbers: ER14-2223-000.

Applicants: Sabine Cogen, LP.

Description: Second Amendment to June 19, 2014 Sabine Cogen, LP tariff filing.

Filed Date: 7/29/14.

Accession Number: 20140729-5147.

Comments Due: 5 p.m. ET 8/19/14.

Docket Numbers: ER14-2526-000.

Applicants: Southern California Edison Company.

Description: Service Agreement for Wholesale Distribution Service with City of Industry to be effective 7/31/2014.

Filed Date: 7/30/14.

Accession Number: 20140730-5002.

Comments Due: 5 p.m. ET 8/20/14.

Docket Numbers: ER14-2527-000.

Applicants: PJM Interconnection, L.L.C.

Description: Service Agreement No. 3686; Queue No. Y3-023 to be effective 7/1/2014.

Filed Date: 7/30/14.

Accession Number: 20140730-5043.

Comments Due: 5 p.m. ET 8/20/14.

Docket Numbers: ER14-2528-000.

Applicants: Midcontinent Independent System Operator, Inc.

Description: 2014-07-30 Attachment P GFA Clean-up to be effective 9/29/2014.

Filed Date: 7/30/14.

Accession Number: 20140730-5045.

Comments Due: 5 p.m. ET 8/20/14.

Docket Numbers: ER14-2529-000.

Applicants: Pacific Gas and Electric Company.

Description: Transmission Owner Rate Case 2015 (TO16) to be effective 10/1/2014.

Filed Date: 7/30/14.

Accession Number: 20140730-5071.

Comments Due: 5 p.m. ET 8/20/14.

Docket Numbers: ER14-2530-000.

Applicants: Arizona Public Service Company.

Description: Service Agreement No. 218, Exhibit F Revision No. 8—Mead Phoenix Project to be effective 7/1/2014.

Filed Date: 7/30/14.

Accession Number: 20140730-5081.

Comments Due: 5 p.m. ET 8/20/14.

Docket Numbers: ER14-2531-000.

Applicants: PJM Interconnection, L.L.C.

Description: Service Agreement No. 3911; Queue No. Y3-024 to be effective 7/1/2014.

Filed Date: 7/30/14.

Accession Number: 20140730-5082.

Comments Due: 5 p.m. ET 8/20/14.

Docket Numbers: ER14-2532-000.

Applicants: Tampa Electric Company.

Description: TEC's Compliance Filing Order 792 to be effective 8/1/2014.

Filed Date: 7/30/14.

Accession Number: 20140730-5087.

Comments Due: 5 p.m. ET 8/20/14.

Docket Numbers: ER14-2533-000.

Applicants: MATL LLP.

Description: Replacement for 792 Language to be effective 8/1/2014.

Filed Date: 7/30/14.

Accession Number: 20140730-5093.

Comments Due: 5 p.m. ET 8/20/14.

Docket Numbers: ER14-2534-000.

Applicants: New England Power Company.

Description: New England Power Filing of SGIA with Centennial Island Hydroelectric Company to be effective 6/23/2014.

Filed Date: 7/30/14.

Accession Number: 20140730-5097.

Comments Due: 5 p.m. ET 8/20/14.

Docket Numbers: ER14-2535-000.

Applicants: PJM Interconnection, L.L.C.

Description: Service Agreement No. 3330; Queue No. X1-095 to be effective 7/2/2014.

Filed Date: 7/30/14.

Accession Number: 20140730-5104.

Comments Due: 5 p.m. ET 8/20/14.

Docket Numbers: ER14-2536-000.

Applicants: California Independent System Operator Corporation.

Description: 2014-07-30_ContingencyReserveCostAllocation to be effective 10/1/2014.

Filed Date: 7/30/14.

Accession Number: 20140730-5113.

Comments Due: 5 p.m. ET 8/20/14.

Docket Numbers: ER14-2537-000.

Applicants: Florida Power & Light Company.

Description: FPL and Landfill Energy Systems, LLC Service Agreement No. 327 to be effective 11/1/2014.

Filed Date: 7/30/14.

Accession Number: 20140730-5124.

Comments Due: 5 p.m. ET 8/20/14.

Take notice that the Commission received the following electric securities filings:

Docket Numbers: ES14-46-000.

Applicants: Ameren Illinois Company.

Description: Application for Financing Authorization under Federal Power Act Section 204 of Ameren Illinois Company.

Filed Date: 7/30/14.

Accession Number: 20140730-5092.

Comments Due: 5 p.m. ET 8/20/14.

Take notice that the Commission received the following land acquisition reports:

Docket Numbers: LA14-2-000.

Applicants: Auburndale Peaker Energy Center, LLC, Bethpage Energy Center 3, LLC, Calpine Bethlehem, LLC, Calpine Construction Finance Co., L.P., Calpine Energy Services, L.P., Calpine Gilroy Cogen, L.P., Calpine Greenleaf, Inc., Calpine Mid-Atlantic Generation, LLC, Calpine Mid-Atlantic Marketing, LLC, Calpine Mid Merit, LLC, Calpine New Jersey Generation, LLC, Calpine Newark, LLC, Calpine Power America—CA, LLC, Calpine Vineland Solar, LLC, CCFC Sutter Energy, LLC, CES Marketing V, LLC, CES Marketing IX, LLC, CES Marketing X, LLC, CPN Bethpage 3rd Turbine, Inc., Creed Energy Center, LLC, Delta Energy Center, LLC, Geysers Power Company, LLC, Gilroy Energy Center, LLC, Goose Haven Energy Center, LLC, Hermiston Power, LLC, KIAC Partners, Los Esteros Critical Energy Facility, LLC, Los Medanos Energy Center, LLC, Mankato Energy Center, LLC, Metcalf Energy Center, LLC, Morgan Energy Center, LLC, Nissequogue Cogen Partners, O.L.S. Energy-Agnews, Inc., Osprey Energy Center, LLC, Otay Mesa Energy Center, LLC, Pastoria Energy Facility L.L.C., Pine Bluff Energy, LLC, Power Contract Financing, L.L.C., RockGen Energy, LLC, Russell City Energy Company, LLC, South Point Energy Center, LLC, TBG Cogen Partners, Westbrook Energy Center, LLC, Zion Energy LLC.

Description: Quarterly Land Acquisition Report of the Calpine MBR Sellers.

Filed Date: 7/29/14.

Accession Number: 20140729-5136.

Comments Due: 5 p.m. ET 8/19/14.

Docket Numbers: LA14-2-000.

Applicants: Cedar Creek II, LLC, Copper Mountain Solar 1, LLC, Copper Mountain Solar 2, LLC, Copper Mountain Solar 3, LLC, Energia Sierra Juarez U.S., LLC, Flat Ridge 2 Wind Energy LLC, Fowler Ridge II Wind Farm LLC, Mehoopany Wind Energy LLC, Mesquite Power, LLC, Mesquite Solar 1, LLC, San Diego Gas & Electric Company, Sempra Generation, LLC, Termoelectrica U.S., LLC.

Description: Quarterly Land Acquisition Report of Sempra Generation, LLC, et. al.

Filed Date: 7/29/14.

Accession Number: 20140729-5137

Comments Due: 5 p.m. ET 8/19/14.

Docket Numbers: LA14-2-000.

Applicants: All Dams Generation, LLC, Arlington Valley Solar Energy II, LLC, Bluegrass Generation Company, L.L.C., Calhoun Power Company, LLC, Carville Energy LLC, Centinela Solar Energy, LLC, Cherokee County Cogeneration Partners, LLC, Columbia Energy LLC, Decatur Energy Center, LLC, DeSoto County Generating Company, LLC, Doswell Limited Partnership, Lake Lynn Generation, LLC, Las Vegas Power Company, LLC, LS Power Marketing, LLC, LSP University Park, LLC, Mobile Energy LLC, Oneta Power, LLC, PE Hydro Generation, LLC, Renaissance Power, L.L.C., Riverside Generating Company, L.L.C., Rocky Road Power, LLC, Santa Rosa Energy Center, LLC, Seneca Generation, LLC, Tilton Energy LLC, University Park Energy, LLC, Wallingford Energy LLC, West Deptford Energy, LLC.

Description: Quarterly Land Acquisition Report of the LS MBR Sellers.

Filed Date: 7/29/14.

Accession Number: 20140729-5138

Comments Due: 5 p.m. ET 8/19/14.

Docket Numbers: LA14-2-000.

Applicants: Iberdrola Renewables, LLC, Atlantic Renewable Projects II LLC, Barton Windpower LLC, Big Horn Wind Project LLC, Big Horn II Wind Project LLC, Blue Creek Wind Farm LLC, Buffalo Ridge I LLC, Buffalo Ridge II LLC, Casselman Windpower LLC, Colorado Green Holdings LLC, Dillon Wind LLC, Dry Lake Wind Power, LLC, Dry Lake Wind Power II LLC, Elk River Windfarm, LLC, Elm Creek Wind, LLC, Elm Creek Wind II LLC, Farmers City Wind, LLC, Flat Rock Windpower LLC, Flat Rock Windpower II LLC, Flying Cloud Power Partners, LLC, Groton Wind, LLC, Hardscrabble Wind Power LLC, Hay Canyon Wind LLC, Juniper Canyon Wind Power LLC, Klamath Energy LLC, Klamath Generation LLC, Klondike Wind Power LLC, Klondike Wind Power II LLC, Klondike Wind Power III LLC, Leaning Juniper Wind Power II LLC, Lempster Wind, LLC, Locust Ridge Wind Farm, LLC, Locust Ridge II, LLC, Manzana Wind LLC, MinnDakota Wind LLC, Moraine Wind LLC, Moraine Wind II LLC, Mountain View Power Partners III, LLC, New England Wind, LLC, New Harvest Wind Project LLC, Northern Iowa Windpower II LLC, Pebble Springs Wind LLC, Providence Heights Wind, LLC, Rugby Wind LLC, San Luis Solar LLC, Shiloh I Wind Project, LLC, South Chestnut LLC, Star Point Wind Project LLC, Streator-Cayuga Ridge Wind Power LLC, Trimont Wind I LLC, and Twin Buttes Wind LLC.

Description: Quarterly Land Acquisition Report of the Iberdrola MBR Sellers.

Filed Date: 7/29/14.

Accession Number: 20140729-5139.

Comments Due: 5 p.m. ET 8/19/14.

Docket Numbers: LA14-2-000.

Applicants: Blue Sky East, LLC, Canandaigua Power Partners, LLC, Canandaigua Power Partners II, LLC, Erie Wind, LLC, Evergreen Wind Power, LLC, Evergreen Wind Power III, LLC, First Wind Energy Marketing, LLC, Longfellow Wind, LLC, Milford Wind Corridor Phase I, LLC, Milford Wind Corridor Phase II, LLC, Palouse Wind, LLC, Niagara Wind Power, LLC, Stetson Holdings, LLC, Stetson Wind II, LLC, Vermont Wind, LLC.

Description: Quarterly Land Acquisition Report of the First Wind MBR Companies.

Filed Date: 7/30/14.

Accession Number: 20140730-5028.

Comments Due: 5 p.m. ET 8/20/14.

Docket Numbers: LA14-2-000.

Applicants: Southern Company Services, Inc., Alabama Power Company, Georgia Power Company, Gulf Power Company, Mississippi Power Company, Southern Power Company.

Description: Quarterly Land Acquisition Report of Southern Company Services, Inc. (as Agent).

Filed Date: 7/30/14.

Accession Number: 20140730-5056.

Comments Due: 5 p.m. ET 8/20/14.

Docket Numbers: LA14-2-000.

Applicants: Alta Wind I, LLC, Alta Wind II, LLC, Alta Wind III, LLC, Alta Wind IV, LLC, Alta Wind V, LLC, Alta Wind X, LLC, Alta Wind XI, LLC, ArcLight Energy Marketing, LLC, Badger Creek Limited, Coso Geothermal Power Holdings, LLC, Double “C” Limited, High Sierra Limited, Kern Front Limited, Oak Creek Wind Power, LLC, TGP Energy Management, LLC, and Victory Garden Phase IV, LLC.

Description: Quarterly Land Acquisition Report of Alta Wind I, LLC, et. al.

Filed Date: 7/30/14.

Accession Number: 20140730-5106.

Comments Due: 5 p.m. ET 8/20/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 30, 2014.
Nathaniel J. Davis, Sr.,
Deputy Secretary.

[FR Doc. 2014-18580 Filed 8-5-14; 8:45 am]

BILLING CODE 6717-01-P